DEPARTMENT OF ENERGY

Federal Energy Regulatory Commission

Notice of Filings

Tuesday, June 7, 2005.

Take notice that the Commission received the following electric rate filings

Docket Numbers: ER01-3001-012.

Applicants: New York Independent System Operator, Inc.

Description: New York Independent System Operator, Inc.'s Bi-Annual Compliance report under ER01-3001 regarding status of demand response programs and the addition of new generation resources.

Filed Date: 06/02/2005.

Accession Number: 20050602-5005.

Comment Date: 5 p.m. Eastern Time on Thursday, June 23, 2005.

Docket Numbers: ER05-1064-000.

Applicants: Celerity Energy of New Mexico, LLC.

Description: Celerity Energy of New Mexico LLC submits a Notice of Cancellation of its market based rate tariff currently on file designated as FERC Electric Tariff, Original Volume No. 1 under ER05-1064.

Filed Date: 06/02/2005.

Accession Number: 20050606-0050.

Comment Date: 5 p.m. Eastern Time on Thursday, June 13, 2005.

Docket Numbers: ER05-1066-000.

Applicants: Nevada Power Company.

Description: Nevada Power Company submits an executed Service Agreement for Network Integration Transmission Service Retail Access Transmission Service designated as Service Agreement 05-00393 and a Network Operating Agreement designated as Service Agreement No. 05-00392 under Sierra Pacific Resources Operating Companies' FERC Electric Tariff, Third Revised Volume No. 1, effective 6/1/05.

Filed Date: 06/02/2005.

Accession Number: 20050606-0162.

Comment Date: 5 p.m. Eastern Time on Thursday, June 23, 2005.

Docket Numbers: ER05-1067-000.

Applicants: Deseret Generation & Transmission Co-operative, Inc.

Description: Deseret Generation & Transmission Co-operative, Inc. submits its annual information filing setting forth updated approved costs for member-owned generation resources for 2005 under ER05-1067.

Filed Date: 06/02/2005.

Accession Number: 20050606-0163.

Comment Date: 5 p.m. Eastern Time on Thursday, June 23, 2005.

Docket Numbers: ER05-1068-000.

Applicants: Nevada Power Company.

Description: Nevada Power Company submits a notice of cancellation of a Service Agreement for Network Integration Transmission Service Retail Access Transmission Service designated Agreement 04-00201 and the related Network Operating Agreement designated Agreement No. 04-00202 which were filed with the Commission by Nevada Power on June 4, 2004 in Docket No. ER04-909-000.

Filed Date: 06/02/2005.

Accession Number: 20050606-0157.

Comment Date: 5 p.m. Eastern Time on Thursday, June 23, 2005.

Docket Numbers: ER05-1069-000.

Applicants: Nevada Power Company.

Description: Nevada Power submits a Notice of Cancellation of a Service Agreement for Network Integration Transmission Service Retail Access Transmission Service designated as Service Agreement No. 04-00722 and a Network Operating Agreement designated as Agreement No. 04-0073 which were filed by Nevada Power on December 15, 2004 in Docket No. ER05-334-000.

Filed Date: 06/02/2005.

Accession Number: 20050606-0158.

Comment Date: 5 p.m. Eastern Time on Thursday, June 23, 2005.

Docket Numbers: ER05-722-001.

Applicants: Carolina Power & Light Company.

Description: Carolina Power & Light Power Company d/b/a Progress Energy Carolinas, Inc. submits its refund report in compliance with FERC's 5/20/05 letter order under ER05-722.

Filed Date: 06/02/2005.

Accession Number: 20050606-0049.

Comment Date: 5 p.m. Eastern Time on Thursday, June 23, 2005.

Docket Numbers: ER05-429-002.

Applicants: Pacificorp.

Description: PacifiCorp submits Restated and Amended Transmission Agreement with Tri-State Generation and Transmission Association, Inc. in compliance with FERC's 3/1/05 letter order under ER05-429.

Filed Date: 06/01/2005.

Accession Number: 20050606-0051.

Comment Date: 5 p.m. Eastern Time on Wednesday, June 22, 2005.

Docket Numbers: ER05-791-001.

Applicants: El Segundo Power, LLC.

Description: El Segundo Power, LLC submits response to the interventions & comments filed by the California System Operator Corporation dated April 27, 2005 and supplemental protest dated May 9, 2005 and also submits Substitute First Revised Sheet No. 129 under its Rate Schedule FERC No. 2

Filed Date: 05/27/2005.

Accession Number: 20050531-0112.

Comment Date: 5 p.m. Eastern Time on Friday, June 17, 2005.

Docket Numbers: ER05-737-001.

Applicants: Commerce Energy Inc.

Description: Commerce Energy Inc submits its triennial market power review in support of its market based rate authority under ER05-737.

Filed Date: 05/31/2005.

Accession Number: 20050602-0039.

Comment Date: 5 p.m. Eastern Time on Tuesday, June 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please email FERCOnlinSupport@ferc.gov. or call (866) 208-3676 (toll free). For TTY, call (202) 502-8659.

Linda Mitry,
Deputy Secretary.

[FR Doc. E5-3836 Filed 7-18-05; 8:45 am]

BILLING CODE 6717-01-P